FEDERAL COMMUNICATIONS COMMISSION

Notice of Public Information Collection Being Reviewed and Approved By the Federal Communications Commission Under Delegated Authority, Comments Requested

January 21, 2010.

SUMMARY: The Federal Communications Commission, as part of its continuing effort to reduce paperwork burden invites the general public and other Federal agencies to take this opportunity to comment on the following information collection(s), as required by the Paperwork Reduction Act of 1995, 44 U.S.C. 3501-3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid control number. No person shall be subject to any penalty for failing to comply with a collection of information subject to the Paperwork Reduction Act (PRA) that does not display a valid OMB control number.

DATES: Persons wishing to comments on this information collection should submit comments on or before March 29, 2010. If you anticipate that you will be submitting comments, but find it difficult to do so within the period of time allowed by this notice, you should advise the contact listed below as soon as possible.

ADDRESSES: Direct all PRA comments to Nicholas A. Fraser, Office of Management and Budget (OMB), via fax at (202) 395-5167, or via the Internet at Nicholas_A._Fraser@omb.eop.gov and to Judith B. Herman, Federal Communications Commission (FCC). To submit your PRA comments by e-mail send them to: PRA@fcc.gov.

FOR FURTHER INFORMATION CONTACT: Judith B. Herman, OMD, 202-418-0214. For additional information about the information collection(s) send an e-mail to PRA@fcc.gov or contact Judith B. Herman, 202-418-0214.

SUPPLEMENTARY INFORMATION: OMB Control No: 3060-1132.

Title: National Broadband Plan Survey: Demand for Broadband.

Form No.: N/A.

Type of Review: Extension of a currently approved collection.

Respondents: Individuals or households.

Number of Respondents: 4,500 respondents; 4,500 responses.

Estimated Time Per Response: .33 hours (20 minutes).

Frequency of Response: On occasion reporting requirement.

Obligation to Respond: Voluntary. Statutory authority for this collection of information is contained in Public Law No. 110-385, Broadband Data Improvement Act of 2008 and Public Law No. 111-5, American Reinvestment and Recovery Act of 2009.

Total Annual Burden: 1,350 hours.

Privacy Act Impact Assessment: No.

Nature and Extent of Confidentiality: No personally identifiable information will be transmitted to the Commission from the survey contractor as a matter of vendor policy.

Need and Uses: The Commission is now seeking the full three year clearance from the Office of Management and Budget (OMB) for this information collection. The Commission sought and received emergency OMB approval in December 2009 for this information collection. Emergency OMB approvals are only valid for six months. In order to obtain the full three year clearance, the Commission must submit this as an extension (no change in the reporting requirement and/or burden estimates.)

The American Recovery and Reinvestment Act of 2009 authorized the Federal Communications Commission to create the National Broadband Plan that shall seek to ensure that all people of the United States have access to broadband capability and shall establish benchmarks for meeting that goal. Consistent with this effort, and pursuant to the requirements under the Broadband Data Improvement Act of 2008, the Commission's Office of Strategic Planning seeks to conduct a survey of residential consumers of broadband Internet to determine their willingness to pay for different components of broadband service in order to make recommendations as part of the National Broadband Plan which is now due to Congress by March 17, 2010.

Federal Communications Commission.
Marlene H. Dortch,
Secretary, Office of the Secretary, Office of Managing Director.

[FR Doc. 2010-1586 Filed 1-26-10; 8:45 am]

BILLING CODE 6712-01-S